DEPARTMENT OF HOUSING AND URBAN DEVELOPMENT

[Docket No. FR-5909-N-90]

30-Day Notice of Proposed Information Collection: Family Report, Moving to Work (MTW) Family Report

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: January 4, 2017.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on September 26, 2016 at 81 FR 66070.

A. Overview of Information Collection

Title of Information Collection: Family Report, Moving to Work (MTW) Family Report.

OMB Approval Number: 2577-0083.

Type of Request: Extension of currently approved collection.

Form Number: Form HUD 50058 Family Report, and HUD 50058 MTW Family Report.

Description of the need for the information and proposed use: The Office of Public and Indian Housing of the Department of Housing and Urban Development (HUD) provides funding to Public Housing Agencies (PHAs) to administer assisted housing programs. Form HUD-50058 MTW Family Reports solicit demographic, family profile, income and housing information on the entire nationwide population of tenants residing in assisted housing. The information collected through the Form HUD-50058 MTW will be used to monitor and evaluate the Office of Public and Indian Housing, Moving to Work (MTW) Demonstration program which includes Public Housing, Section 8 Housing Choice Voucher, Section 8 Project Based Certificates and Vouchers, Section 8 Moderate Rehabilitation and Moving to Work (MTW) Demonstration programs. Tenant data is collected to understand demographic, family profile, income, and housing information for participants in the Public Housing, Section 8 Housing Choice Voucher, Section 8 Project Based Certificate, Section 8 Moderate Rehabilitation, and Moving to Work Demonstration programs. This data also allows HUD to monitor the performance of programs and the performance of public housing agencies that administer the programs.

Information collection | Number of respondents (PHA) (with responses) | *Average number of reponses per respondent (with responses) | Total annual responses | Hours per response | Total hours | Total cost (at a rate of $17.50/hr)
Form HUD-50058 New Admission | 4,114 | 87 | 357,918 | .67 | 239,805.06 | $4,196,588.55
Form HUD-50058 Recertification | 4,114 | 583 | 2,398,462 | .33 | 791,492.46 | $13,851,118.05
Form HUD-50058 MTW New Admission | 39 | 529 | 20,631 | .67 | 13,822.77 | $241,898.48
Form HUD-50058 MTW Recertification | 39 | 4,018 | 156,702 | .33 | 51,711.66 | $904,954.05
Totals | 4,153 |  | 2,933,713 |  | 1,096,831.95 |
* Average Number of Responses per Respondents = Total Annual Responses/Number of Respondents.
Estimated annualized hourly cost to respondents (PHA); Form HUD-50058: To report using Form HUD-50058 Family Report, it will cost the average PHA $1,020.08 annually to enter and submit all data for New Admission and $3,366.83 annually for Recertification.
• Total Cost for all PHAs; Form HUD-50058 Family Report New Admissions =
○ 239,805.06 Total Hours × $17.50/hour = $4,196,588.55
• Cost per PHA = $4,196,588.55 Total cost for all PHAs ÷ 4,114 PHAs (with responses) = $1,020.08 per PHA annually
• Total Cost for all PHAs; Form HUD-50058 Family Report Recertification =
○ 791,492.46 Total Hours × $17.50/hour = $13,851,118.05
• Cost per PHA = $13,851,118.05 Total cost for all PHAs ÷ 4,114 PHAs (with responses) = $3,366.83 per PHA annually
Estimated annualized hourly cost to respondents (PHA); Form HUD-50058 MTW: To report using Form HUD-50058 Family Report, it will cost the average PHA $6,171.67 annually to enter and submit all data for New Admissions and $23,438.33 annually for Recertification.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: including through the use of appropriate automated collection techniques or other forms of information technology, e.g., permitting electronic submission of responses. HUD encourages interested parties to submit comment in response to these questions.

C. Authority

Section 3507 of the Paperwork Reduction Act of 1995, 44 U.S.C. Chapter 35.

Dated: November 28, 2016.
Colette Pollard,
Department Reports Management Officer, Office of the Chief Information Officer.

[FR Doc. 2016-29120 Filed 12-2-16; 8:45 am]

BILLING CODE 4210-67-P